DEPARTMENT OF HEALTH AND HUMAN SERVICES

National Institutes of Health

Center for Scientific Review; Amended Notice of Meeting

Notice is hereby given of a change in the meeting of the Imaging Probes and Contrast Agents Study Section, March 12, 2026, 09:00 a.m. to March 13, 2026, 06:00 p.m., National Institutes of Health, Rockledge II, 6701 Rockledge Drive, Bethesda, MD 20892 which was published in the Federal Register on February 02, 2026, 91 FR 4571.

This meeting is being amended to change the meeting start time from 9:00 a.m. to 10:00 a.m. The meeting is closed to the public.

Dated: February 12, 2026.
Bruce A. George,
Program Analyst, Office of Federal Advisory Committee Policy.

[FR Doc. 2026-03049 Filed 2-13-26; 8:45 am]

BILLING CODE 4140-01-P